DEPARTMENT OF HEALTH AND HUMAN SERVICES

Health Resources and Services Administration

State Health Departments Coordinating Center of the Jurisdictional Approach To Curing Hepatitis C Among HIV/HCV Coinfected People of Color Demonstration Project Supported by the Secretary's Minority AIDS Initiative Fund

AGENCY: Health Resources and Services Administration (HRSA), Department of Health and Human Services.

ACTION: Notice of a deviation from competition requirements to make a single-source award related to the Jurisdictional Approach to Curing Hepatitis C (HCV) among HIV/HCV Coinfected People of Color demonstration project.

SUMMARY: HRSA's HIV/AIDS Bureau (HAB) awarded a non-competitive single source cooperative agreement to National Alliance of State and Territorial AIDS Directors (NASTAD) for approximately $977,400 in the Secretary's Minority AIDS Initiative Funds (SMAIF) as authorized under the Consolidated Appropriations Act, 2016 (Pub L. 114-113), Division H, Title II. Subject to the availability of funds and NASTAD's satisfactory performance, HAB will also issue non-competitive, single-source awards of approximately $750,000 each in fiscal years (FY) 2017 and 2018. This will allow NASTAD to facilitate the participation of up to two Ryan White HIV/AIDS Program Part B recipients in the Jurisdictional Approach to Curing Hepatitis C among HIV/HCV Coinfected People of Color demonstration project over its 3-year project period.

FOR FURTHER INFORMATION CONTACT: Harold J. Phillips, Director, Office of Training and Capacity Development, HAB/HRSA, 5600 Fishers Lane, Room 9N-114, Rockville, MD 20857, by email at hphillips@hrsa.gov or by phone at (301) 443-8109.

SUPPLEMENTARY INFORMATION:

Recipient of the Award: National Alliance of State and Territorial AIDS Directors.

Period of Supplemental Funding: September 30, 2016-September 29, 2019.

Funding Amount: Up to $977,400 in FY 2016, and subject to availability of appropriated funds, approximately $750,000 in FYs 2017 and 2018.

Authority: Consolidated Appropriations Act, 2016 (Pub L. 114-113), Division H, Title II CFDA Number: 93.928.

Justification: The Jurisdictional Approach to Curing Hepatitis C among HIV/HCV Coinfected People of Color demonstration project seeks to: (1) Increase jurisdiction-level capacity to provide comprehensive screening, care and treatment for HCV among HIV/HCV co-infected people particularly in disproportionately affected racial and ethnic minority communities; (2) increase the numbers of HIV/HCV co-infected people who are diagnosed with hepatitis C, treated, and cured; (3) identify and provide technical assistance for jurisdictions to reach goals (1) and (2); and, (4) develop a plan for evaluation of the program impact.

During the original application period, as outlined in Funding Opportunity Announcement HRSA-16-189, no Ryan White Part B recipients (States) applied. This non-competitive single source cooperative agreement award will provide important resources in a part of the country that would not otherwise have any coverage.

NASTAD is a national non-profit alliance of state health department program directors who are responsible for administering HIV/AIDS and viral hepatitis health care, prevention, education, and supportive services programs funded by state and federal governments. These include programs funded by the Centers for Disease Control and Prevention and HRSA. In working closely with its members, NASTAD is dedicated to reducing the incidence of HIV/AIDS and HCV infections in the U.S. and its territories, and supports the provision of comprehensive, compassionate, and high quality care and prevention services to all persons living with HIV/AIDS and HCV, by ensuring responsible and sound public policies and practices.

NASTAD's hepatitis team provides guidance and technical assistance to strengthen the capacity of state and local health departments to develop, maintain, and enhance comprehensive hepatitis programs that address the continuum from prevention through cure. This infrastructure, experience, and strategic partnership between state hepatitis coordinators and AIDS directors make NASTAD the appropriate entity to receive a single-source funding award in an effort to facilitate engagement between the states and HRSA's viral hepatitis efforts.

Dated: September 26, 2016.
James Macrae,
Acting Administrator.

[FR Doc. 2016-23693 Filed 9-29-16; 8:45 am]

BILLING CODE 4165-15-P